SMALL BUSINESS ADMINISTRATION

[Declaration of Disaster #3255]

State of New Mexico; (Amendment #1)

In accordance with a notice from the Federal Emergency Management Agency, dated June 9, 2000, the above-numbered Declaration is hereby amended to establish the incident period for this disaster as beginning on May 5, 2000 and continuing through June 9, 2000.

All other information remains the same, i.e., the deadline for filing applications for physical damage is July 12, 2000 and for economic injury the deadline is February 13, 2001.

(Catalog of Federal Domestic Assistance Program Nos. 59002 and 59008)

Dated: June 14, 2000.
Bernard Kulik,
Associate Administrator for Disaster Assistance.

[FR Doc. 00-16254 Filed 6-27-00; 8:45 am]

BILLING CODE 8025-01-U